NUCLEAR REGULATORY COMMISSION

[NRC-2009-0414]

Withdrawal of Regulatory Guide 7.2

AGENCY: Nuclear Regulatory Commission.

ACTION: Withdrawal of Regulatory Guide 7.2

FOR FURTHER INFORMATION CONTACT: Thomas J. Herrity, U.S. Nuclear Regulatory Commission, Washington, DC 20555-0001, telephone: 301-251-7447 or e-mail to Thomas.Herrity@nrc.gov.

SUPPLEMENTARY INFORMATION:

I. Introduction

The U.S. Nuclear Regulatory Commission (NRC) is withdrawing Regulatory Guide (RG) 7.2, “Packaging and Transportation of Radioactively Contaminated Biological Materials.” Regulatory Guide 7.2 was published in June 1974. It provides guidance on meeting the Department of Transportation (DOT) requirements for Type A shipments of radioactively contaminated biological materials. It also recommends appropriate packaging and limits on the radioactive contents for any single package of this type of material, marking and labeling of packages, and limitations on storage of the packaged material before, during, and after transport. The NRC is withdrawing RG 7.2 because the guidance it provides is outdated.

The regulations for transport of hazardous materials are currently in 49 CFR Part 173 Subpart I. The DOT's regulations have been revised several times since RG 7.2 was issued. However, neither RG 7.2 nor the American National Standards Institute (ANSI) guidance was revised to keep current with the changing regulations. The ANSI guidance referenced in this RG, which was issued as Standard N14.3-1973, “Packaging and Transportation of Radioactively Contaminated Biological Materials” by the N14.3 subcommittee, has been withdrawn.

II. Further Information

The withdrawal of RG 7.2 does not alter any prior or existing licensing commitments based on its use. The guidance provided in this regulatory guide is neither necessary nor current. Regulatory guides may be withdrawn when their guidance is superseded by congressional action or no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is US NRC PDR, Washington, DC 20555-0001. You can reach the PDR staff by telephone at 301-415-4737 or 800-397-4209, by fax at 301-415-3548, and by e-mail to pdr.resource@nrc.gov.

Regulatory guides are not copyrighted, and Commission approval is not required to reproduce them.

Dated at Rockville, Maryland, this 14th day of September, 2009.
For the Nuclear Regulatory Commission.
Andrea D. Valentin,
Chief, Regulatory Guide Development Branch, Division of Engineering, Office of Nuclear Regulatory Research.

[FR Doc. E9-22603 Filed 9-18-09; 8:45 am]

BILLING CODE 7590-01-P